SMALL BUSINESS ADMINISTRATION

[Declaration of Disaster #3278]

Commonwealth of Pennsylvania (and Contiguous Counties in New Jersey)

Bucks County and the contiguous Counties of Lehigh, Montgomery, Northampton, and Philadelphia in the Commonwealth of Pennsylvania, and Burlington, Hunterdon, Mercer, and Warren in the State of New Jersey constitute a disaster area as a result of damages caused by flash flooding that occurred July 30 through August 2, 2000. Applications for loans for physical damage as a result of this disaster may be filed until the close of business on October 10, 2000 and for economic injury until the close of business on May 8, 2001 at the address listed below or other locally announced locations: U.S. Small Business Administration, Disaster Area 1 Office, 360 Rainbow Boulevard South, 3rd Floor, Niagara Falls, NY 14303.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster for physical damage are 327806 for Pennsylvania and 327906 for New Jersey. For economic injury the numbers are 9I0700 for Pennsylvania and 9I0800 for New Jersey.

(Catalog of Federal Domestic Assistance Program Nos. 59002 and 59008)
Dated: August 8, 2000.
Fred P. Hochberg,
Acting Administrator.

[FR Doc. 00-20874 Filed 8-16-00; 8:45 am]

BILLING CODE 8025-01-P